DEPARTMENT OF TRANSPORTATION

Federal Transit Administration

Preparation of Alternatives Analysis and Environmental Impact Statement for the Commuter Rail Project in Sonoma and Marin Counties, California

AGENCY: Federal Transit Administration (FTA), Department of Transportation (DOT).

ACTION: Notice of Intent to prepare an Alternatives Analysis and Draft Environmental Impact Statement (AA/DEIS).

SUMMARY: The Federal Transit Administration (FTA) as lead agency and the Sonoma Marin Area Rail Transit (SMART) Commission intend to conduct an Alternatives Analysis and prepare a Draft Environmental Impact Statement (AA/DEIS) on a proposal by SMART for the proposed introduction of commuter rail service along an existing railroad right-of-way extending approximately 75-miles from Cloverdale in Sonoma County to a San Francisco/East Bay bound ferry terminal in Marin County. The EIS will be prepared as a joint EIS and Environmental Impact Report (EIR) to satisfy the requirements of both the National Environmental Policy Act of 1969 (NEPA) and the California Environmental Quality Act (CEQA).

The purpose of this notice is to notify interested individuals, organizations, and business entities, affected Native American Tribes and Federal, State, and local government agencies of the intent to prepare an AA/DEIS and to invite participation in the study. At present three alternatives are proposed for evaluation in the EIS/EIR. In addition, reasonable alternatives identified through the scoping process will be evaluated in the EIS/EIR.

Scoping will be accomplished through correspondence and discussion with interested persons, organizations, and Federal, State and local agencies, and through public and agency meetings.

DATES: Comment Due Date: Written comments on the scope of the alternatives and impacts to be considered should be received no later than October 1, 2003. Written comments should be sent to the SMART AA/DEIS/DEIR Outreach at the address given below in ADDRESSES.

Scoping Meeting Dates: Two public open-house scoping meetings will be held from 6 p.m. to 8 p.m. on September 4 and 10, 2003 at the location given below in ADDRESSES. An interagency scoping meeting will also be held on September 17, 2003 from 10 a.m. to 12 noon at Novato City Council Chambers located at 917 Sherman Avenue, Novato, California 94947.

The two scoping meetings will be held at the following dates and locations:

1. September 4, 2003 from 6 p.m. to 8 p.m. at the San Rafael Corporate Center located at 750 Lindaro Street, San Rafael, California 94901.

2. September 10, 2003 from 6 p.m. to 8 p.m. at the Petaluma Community Center located at 320 N. McDowell Boulevard, Petaluma, California 94954.

All locations are accessible to people with disabilities.

ADDRESSES: Written comments should be sent to Ms. Lillian Hames, Project Director SMART (Sonoma Marin Area Rail Transit), 520 Mendocino Avenue, Suite 240, Santa Rosa, California 95401. Phone: 415-461-00630 Fax: 415-464-1285. E-mail: LHames@sonomamarintrain.org. To be added to the mailing list, contact Ms. Hames at the address listed above. Please specify the mailing list for the SMART Alternatives Analysis/Draft Environmental Impact Statement/Report (SMART AA/DEIS/R). Persons with special needs should leave a message at either of the phone numbers indicated above.

FOR FURTHER INFORMATION CONTACT: Ms. Lorraine Lerman, Community Planner, FTA Region IX, 201 Mission Street, Suite 2210, San Francisco, CA 94105. Phone: (415) 744-2735 Fax: (415) 744-2726. Information about the project can also be obtained from the SMART Web site, http://www.sonomamarintrain.org/.

SUPPLEMENTARY INFORMATION:

I. Description of Study Area

The FTA, as joint lead agency with the SMART Commission, will prepare an AA/DEIS/DEIR on a proposal to provide commuter rail service along an existing railroad right-of-way extending approximately 75-miles in Sonoma and Marin counties. The study area begins in Coverdale in Sonoma County. The southern terminus of the project area is in Marin County at a San Francisco/East Bay bound ferry terminal. Along the project route, the rail right-of-way runs parallel to Highway 101. The rail right-of-way south of Healdsburg has been transferred to a new statutorily-created entity, the Sonoma Marin Area Rail Transit District. North of Healdsburg the North Coast Railroad Authority (NCRA) owns it. The project area also includes the locations of up to 15 stations and maintenance facility sites. Conceptual engineering of the rail alignment, a pedestrian and bicycle path, the station facilities, and the maintenance facility will be included in AA/DEIS/DEIR that satisfies both NEPA and CEQA requirements. In addition, a financial plan will be developed that examines the capital and operating funding needs and sources.

II. Purpose and Need

Highway 101 is the primary mode of north-south movement connecting Sonoma and Marin counties with the City and County of San Francisco. The existing congested conditions in this corridor are expected to worsen as the area's population and job base continue to grow. The SMART corridor offers an opportunity to provide additional transportation capacity along a currently congested corridor. Implementation of the proposed actions will provide transit service to key employment areas along the corridor, maximize and maintain the viability of residential communities, encourage smart growth in city centers along the corridor, and reduce reliance on private automobile usage and the congested Highway 101 corridor.

III. Alternatives

Alternatives proposed for evaluation include but are not limited to:

(1) No-build alternative, which consists of the existing highway and transit systems plus any ongoing or programmed improvements. It serves as the baseline condition against which the transportation, environmental, and community impacts of the other alternatives are compared.

(2) Introduction of commuter rail service along an existing railroad right-of-way extending approximately 75-miles from Cloverdale in Sonoma County to a San Francisco/East Bay bound ferry terminal in Marin County.

(3) Enhanced bus service on Highway 101 from Cloverdale in Sonoma County to Larkspur in Marin County, including bus enhancements and capital improvements along the Highway 101 corridor.

IV. Probable Effects

The purpose of the EIS/EIR is to fully disclose the environmental consequences of building and operating a major capital investment in the SMART corridor in advance of any decisions to commit substantial financial or other resources towards its implementation. The EIS/EIR will examine the transportation benefits and environmental impacts of the alternatives that emerge from the scoping process. In addition, it will discuss actions to reduce or eliminate such impacts.

Environmental issues to be analyzed in the EIS/EIR include: potential consistency with local plans and policies with regard to possible station sites; possible flooding along portions of the rail line and stations; potential traffic delays and change in traffic levels of service at several rail crossings; potential impacts to wetland areas paralleling the corridor; increased noise to sensitive receptors adjacent to the track; changes in views and vistas due to elevated structures; and potential impacts to historic and cultural resources. In addition, the EIS/EIR will examine potential impacts to population and housing; air quality; energy and mineral resources; contaminated property; public services; utilities; and recreation features; as well as cumulative and growth-inducing impacts. Impacts will be evaluated for both the temporary construction period and for the long-term operation of each alternative. Measures to mitigate any adverse impacts will also be identified.

To ensure that the full range of issues related to this proposed action will be addressed and all significant issues identified, comments and suggestions are invited from all interested parties. Comments or questions concerning this proposed action and the EIS/EIR should be directed to the SMART Project Director as noted in the ADDRESSES section above.

V. FTA Procedures

To streamline the NEPA process and to avoid duplication of effort, the agencies involved in the scoping process will consider the results of any previous planning studies or financial feasibility studies prepared in support of the decision by the Metropolitan Transportation Commission (MTC) to include a particular alternative in the regional transportation plan. Prior transportation planning studies may be pertinent to establishing the purpose and need for the proposed action and the range of alternatives to be evaluated in detail in the EIS/EIR. The Draft EIS/EIR will be prepared simultaneously with conceptual engineering for the alternatives, including station and alignment options. The Draft EIS/EIR process will address the potential use of federal funds for the proposed action, as well as assessing social, economic, and environmental impacts of the station and alignment alternatives. Station designs and alignment alternatives will be refined to minimize and mitigate any adverse impacts. After publication, the Draft EIS/EIR will be available for public and agency review and comment, and a public hearing will be held. Based on the Draft EIS/EIR and comments received, SMART will select a Locally Preferred Alternative for further assessment in the Final EIS/EIR and will apply for FTA approval to initiate Preliminary Engineering of the preferred alternative.

Issued on: August 19, 2003.
Leslie T. Rogers,
Regional Administrator.

[FR Doc. 03-21604 Filed 8-21-03; 8:45 am]

BILLING CODE 4910-57-P